DEPARTMENT OF AGRICULTURE

Food and Nutrition Service

Agency Information Collection Activities: Proposed Collection; Comment Request Food Stamp Program Form FNS-521, Food Coupon Deposit Document

AGENCY: Food and Nutrition Service, USDA.

ACTION: Notice and request for comments.

SUMMARY: In accordance with the Paperwork Reduction Act of 1995, the Food and Nutrition Service is publishing for public comment a summary of a proposed information collection. The proposed collection is an extension of a currently approved collection of the Food Stamp Program for which approval expires on December 31, 2004. The Food Stamp Act of 1977, as amended, requires that all verified and encoded redemption certificates accepted by insured financial institutions from authorized retail food stores shall be forwarded with the corresponding coupon deposits to the Federal Reserve Bank along with the accompanying Food Coupon Deposit Document (Form FNS-521). Requirements in the Food Stamp Program regulations are the basis for the information collected on Form FNS-521.

The Food and Nutrition Service is rapidly phasing out the use of paper food coupons. Currently, 99.9 percent of all food stamp benefits are issued electronically. Forty-eight States, the District of Columbia, the Virgin Islands, Guam, and Puerto Rico have online operating Electronic Benefit Transfer (EBT) systems. Two States operate offline food stamp EBT systems and issue paper food coupons to recipients who move out of State and have remaining food stamp benefits. Many States have already closed out their coupon inventory completely and more will be doing the same in the upcoming year. Approximately 18,140 Food Coupon Deposit Documents were processed by financial institutions in Fiscal Year 2004 and the number continues to decline due to 100 percent EBT implementation. Until all of the paper food coupons issued are redeemed, the Food Coupon Deposit Document will remain an essential document to the food stamp redemption process.

DATES: Comments on this notice must be received by February 4, 2005, to be assured of consideration.

ADDRESSES: Send comments and requests for copies of this information collection to: Andrea Gordon, Chief, Redemption Management Branch, Benefit Redemption Division, Food and Nutrition Service, U. S. Department of Agriculture, 3101 Park Center Drive, Room 404, Alexandria, VA 22302. Comments may also be faxed to (703) 305-1863 or e-mailed to: brdhq-web@fns.usda.gov

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

All comments will be summarized and included in the request for Office of Management and Budget approval of the information collection. All comments will also become a matter of public record.

FOR FURTHER INFORMATION CONTACT: Andrea Gordon, (703) 305-2456.

SUPPLEMENTARY INFORMATION: Title: Food Coupon Deposit Document.

OMB Number: 0584-0314.

Expiration Date: December 31, 2004.

Type of Request: Extension of a currently approved collection.

Abstract: The Food and Nutrition Service (FNS) of the U.S. Department of Agriculture is the Federal Agency responsible for the Food Stamp Program. The Food Stamp Act of 1977, as amended, (the Act) requires that FNS provide for the redemption, through financial institutions, of food coupons accepted by retail food stores from program participants. Section 278.5 of the Food Stamp Program regulations governs financial institution and Federal Reserve participation in the food coupon redemption process.

Form FNS-521, Food Coupon Deposit Document (FCDD) is required to be used by all financial institutions when they deposit food coupons at Federal Reserve Banks. Without the FCDD, no vehicle would exist for financial institutions, Federal Reserve Banks, and the FNS to track deposits of food coupons.

Respondents: Financial institutions and Federal Reserve Banks.

Number of Respondents: 10,000.

Estimated Annual Number of Responses per Respondent: The number of responses is estimated to be 1.814 responses per financial institution or Federal Reserve Bank per year.

Estimate of Burden: Public reporting burden for this collection of information is estimated to average .0097222 hours per response.

Estimated Total Annual Burden: 176 hours.

Dated: November 30, 2004.
Jerome A. Lindsay,
Acting Administrator, Food and Nutrition Service.

[FR Doc. 04-26680 Filed 12-3-04; 8:45 am]

BILLING CODE 3410-30-P